FEDERAL ELECTION COMMISSION.

Sunshine Act Notices

AGENCY: Federal Election Commission.

DATE & TIME: Tuesday, August 13, 2002 at 10 A.M.

PLACE: 999 E Street, NW., Washington, DC.

STATUS: This meeting will be closed to the public.

ITEMS TO BE DISCUSSED: Compliance matters pursuant to 2 U.S.C. 437g.

Audits conducted pursuant to 2 U.S.C. 437g, 438(b), and Title 26, U.S.C.

Matters concerning participation in civil actions or proceedings or arbitration.

Internal personnel rules and procedures or matters affecting a particular employee.

DATE & TIME: Thursday, August 15, 2002 at 10 A.M.

PLACE: 999 E Street, NW., Washington, DC (NINTH FLOOR).

STATUS: This meeting will be closed to the public.

ITEMS TO BE DISCUSSED: Correction and Approval of Minutes.

Notice of Proposed Rulemaking on Contribution Limitations and Prohibitions.

Administrative Matters.

PERSON TO CONTACT FOR INFORMATION: Mr. Ron Harris, Press Officer, Telephone: (202) 694-1220.

Mary W. Dove,
Secretary of the Commission.

[FR Doc. 02-20210 Filed 8-6-02; 12:13 pm]

BILLING CODE 6715-01-M